FEDERAL MINE SAFETY AND HEALTH REVIEW COMMISSION

Sunshine Act Meeting Notice

November 22, 2013.

TIME AND DATE: 1:00 p.m., Thursday, December 5, 2013.

PLACE: The Richard V. Backley Hearing Room, Room 511N, 1331 Pennsylvania Avenue NW., Washington, DC 20004 (entry from F Street entrance).

STATUS: Open.

MATTERS TO BE CONSIDERED: The Commission will consider and act upon the following in open session: United Mine Workers of America on behalf of Franks v. Emerald Coal Resources, LP, Docket No. PENN 2012-250-D; and United Mine Workers of America on behalf of Hoy v. Emerald Coal Resources, LP, Docket No. PENN 2012-251-D (Issues include whether the Administrative Law Judge erred in concluding that miners' suspensions for refusing to provide certain safety-related information to the operator constituted unlawful discrimination.)

Any person attending this meeting who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Emogene Johnson,
Administrative Assistant.

[FR Doc. 2013-28586 Filed 11-25-13; 11:15 am]

BILLING CODE 6735-01-P